DEPARTMENT OF COMMERCE

National Oceanic and Atmospheric Administration

Notice of Availability of a Draft Programmatic Environmental Assessment for Office of Coast Survey Hydrographic Survey Projects

AGENCY: Office of Coast Survey (OCS), National Ocean Service (NOS), National Oceanic and Atmospheric Administration (NOAA), Department of Commerce.

ACTION: Notice of availability of a Draft Programmatic Environmental Assessment; Request for comments.

SUMMARY: NOAA's Office of Coast Survey (OCS) seeks comment on a draft programmatic environmental assessment (PEA) of the hydrographic surveys and related activities that OCS regularly conducts in navigationally significant waters around the nation. These surveys use a vessel equipped with high-frequency side scan sonar, single beam, and multibeam echosounders, which use sound waves to find and identify objects in the water and to determine water depth. Hydrographic survey projects support the OCS mission to provide reliable nautical charts and other products necessary for safe navigation and sound decision-making in U.S. ocean and coastal waters. The intended effects of the surveys are to provide the foundation for navigational charts required by all domestic ships moving people and products in and out of U.S. ports every year. Charts help prevent mariners from running ships aground or hitting dangerous obstructions (e.g., ship wrecks, marine debris, or pinnacle rocks). Groundings or collisions with other objects in the sea can result in the release of oil or dangerous chemicals into the marine environment.

Date and Time: The above document is available for public review and comment through July 22, 2012.

ADDRESSES: If you wish to comment on the OCS Draft Programmatic Environmental Assessment, you may email comments to Jeff Ferguson, Chief, Hydrographic Surveys Division at jeff.ferguson@noaa.gov.

FOR FURTHER INFORMATION CONTACT: Kathleen Jamison, Office of Coast Survey at 301-713-2777 x153 or kathleen.jamison@noaa.gov.

SUPPLEMENTARY INFORMATION: The Draft Programmatic Environmental Assessment for Office of Coast Survey Hydrographic Survey Projects is available for review at http://www.nauticalcharts.noaa.gov/Legal/.

Authority: Coast and Geodetic Survey Act (33 U.S.C. 883a et seq.); Hydrographic Services Improvement Act, as amended (33 U.S.C. 892).

Dated: June 8, 2012.
Kathryn Ries,
Director, Office of Coast Survey, National Ocean Service, National Oceanic and Atmospheric Administration.

[FR Doc. 2012-14998 Filed 6-19-12; 8:45 am]

BILLING CODE 3510-JE-P